DEPARTMENT OF ENERGY

Federal Energy Regulatory Commission

Combined Notice of Filings #2

Take notice that the Commission received the following electric rate filings:

Docket Numbers: ER14-1831-001.

Applicants: PJM Interconnection, L.L.C., Virginia Electric and Power Company.

Description: Compliance filing: Dominion's compliance filing revising H-16A methodology of calculating ADIT to be effective 5/1/2014.

Filed Date: 10/30/15.

Accession Number: 20151030-5284.

Comments Due: 5 p.m. ET 11/20/15.

Docket Numbers: ER15-411-003.

Applicants: Arizona Public Service Company.

Description: Compliance filing: Rate Schedule No. 274—Planning Participation Agreement to be effective 1/1/2015.

Filed Date: 10/30/15.

Accession Number: 20151030-5275.

Comments Due: 5 p.m. ET 11/20/15.

Docket Numbers: ER15-680-001.

Applicants: PacifiCorp.

Description: Compliance filing: Idaho Power Asset Exchange Compliance Filing (Agreements) to be effective 10/30/2015.

Filed Date: 10/30/15.

Accession Number: 20151030-5310.

Comments Due: 5 p.m. ET 11/20/15.

Docket Numbers: ER15-681-001.

Applicants: PacifiCorp.

Description: Compliance filing: Idaho Power Asset Exchange Compliance Filing (Cancellations) to be effective 10/30/2015.

Filed Date: 10/30/15.

Accession Number: 20151030-5312.

Comments Due: 5 p.m. ET 11/20/15.

Docket Numbers: ER15-683-001.

Applicants: Idaho Power Company.

Description: Compliance filing: Legacy Agreements Replacement Transaction—Closing Compliance Filing to be effective 10/30/2015.

Filed Date: 10/30/15.

Accession Number: 20151030-5324.

Comments Due: 5 p.m. ET 11/20/15.

Docket Numbers: ER15-686-001.

Applicants: Idaho Power Company.

Description: Compliance filing: Legacy Transaction Cancellations—Closing Compliance Filing to be effective 10/30/2015.

Filed Date: 10/30/15.

Accession Number: 20151030-5386.

Comments Due: 5 p.m. ET 11/20/15.

Docket Numbers: ER15-1133-001.

Applicants: Idaho Power Company.

Description: Compliance filing: PAC LTF BORA-LGBP Service Agreement—Closing Compliance Filing to be effective 10/30/2015.

Filed Date: 10/30/15.

Accession Number: 20151030-5394.

Comments Due: 5 p.m. ET 11/20/15.

Docket Numbers: ER15-1595-001.

Applicants: Idaho Power Company.

Description: Compliance filing: PAC LTF BORA-ENPR/LGBP Service Agreements—Closing Compliance Filing to be effective 10/30/2015.

Filed Date: 10/30/15.

Accession Number: 20151030-5397.

Comments Due: 5 p.m. ET 11/20/15.

Docket Numbers: ER16-194-000.

Applicants: Startrans IO, LLC.

Description: Section 205(d) Rate Filing: Rate Change to be effective 1/1/2016.

Filed Date: 10/30/15.

Accession Number: 20151030-5250.

Comments Due: 5 p.m. ET 11/20/15.

Docket Numbers: ER16-195-000.

Applicants: Public Service Company of Colorado.

Description: Section 205(d) Rate Filing: 2015-10-30_NSP-StJms-Tran to Load-592-0.0.0-Filing to be effective 1/1/2016.

Filed Date: 10/30/15.

Accession Number: 20151030-5252.

Comments Due: 5 p.m. ET 11/20/15.

Docket Numbers: ER16-196-000.

Applicants: Southwest Power Pool, Inc.

Description: Section 205(d) Rate Filing: 2804 Basin and WAPA-UGPR Meter Agent Agreement Cancellation to be effective 10/1/2015.

Filed Date: 10/30/15.

Accession Number: 20151030-5269.

Comments Due: 5 p.m. ET 11/20/15.

Docket Numbers: ER16-197-000.

Applicants: Midcontinent Independent System Operator, Inc.

Description: Section 205(d) Rate Filing: 2015-10-30_MISO TOs Attachment O ADIT Filing to be effective 1/1/2016.

Filed Date: 10/30/15.

Accession Number: 20151030-5274.

Comments Due: 5 p.m. ET 11/20/15.

Docket Numbers: ER16-198-000.

Applicants: Southwest Power Pool, Inc.

Description: Section 205(d) Rate Filing: 3118 Northern States Power and Basin Electric Meter Agent Agreement to be effective 10/1/2015.

Filed Date: 10/30/15.

Accession Number: 20151030-5277.

Comments Due: 5 p.m. ET 11/20/15.

Docket Numbers: ER16-199-000.

Applicants: Arizona Public Service Company.

Description: Section 205(d) Rate Filing: Rate Schedule No. 274—Planning Participation Agreement to be effective 10/1/2015.

Filed Date: 10/30/15.

Accession Number: 20151030-5279.

Comments Due: 5 p.m. ET 11/20/15.

Docket Numbers: ER16-200-000.

Applicants: Duke Energy Indiana, Inc.

Description: Section 205(d) Rate Filing: Reactive Rate Filing for MISO to be effective 1/1/2016.

Filed Date: 10/30/15.

Accession Number: 20151030-5280.

Comments Due: 5 p.m. ET 11/20/15.

Docket Numbers: ER16-201-000.

Applicants: Duke Energy Indiana, Inc.

Description: Section 205(d) Rate Filing: Reactive Rate for Madison (PJM) to be effective 1/1/2016.

Filed Date: 10/30/15.

Accession Number: 20151030-5285.

Comments Due: 5 p.m. ET 11/20/15.

Docket Numbers: ER16-202-000.

Applicants: Arizona Public Service Company.

Description: Section 205(d) Rate Filing: Service Agreement No. 347—Tohono O'odham to be effective 1/1/2016.

Filed Date: 10/30/15.

Accession Number: 20151030-5290.

Comments Due: 5 p.m. ET 11/20/15.

Docket Numbers: ER16-203-000.

Applicants: Duke Energy Carolinas, LLC.

Description: Section 205(d) Rate Filing: DEC-DEP PTP TSA to be effective 1/1/2016.

Filed Date: 10/30/15.

Accession Number: 20151030-5296.

Comments Due: 5 p.m. ET 11/20/15.

Docket Numbers: ER16-204-000.

Applicants: Southwest Power Pool, Inc.

Description: Section 205(d) Rate Filing: Tri-State Generation and Transmission Association Formula Rate to be effective 1/1/2016.

Filed Date: 10/30/15.

Accession Number: 20151030-5302.

Comments Due: 5 p.m. ET 11/20/15.

Docket Numbers: ER16-205-000.

Applicants: DATC Path 15, LLC.

Description: Section 205(d) Rate Filing: Revised Appendix I 2016 to be effective 1/1/2016.

Filed Date: 10/30/15.

Accession Number: 20151030-5319.

Comments Due: 5 p.m. ET 11/20/15.

Docket Numbers: ER16-206-000.

Applicants: Midcontinent Independent System Operator, Inc., ITC Midwest LLC.

Description: Section 205(d) Rate Filing: 2015-10-30_SA 2862 ITC Midwest-WPL Facilities Service Agreement (G870) to be effective 11/1/2015.

Filed Date: 10/30/15.

Accession Number: 20151030-5345.

Comments Due: 5 p.m. ET 11/20/15.

Docket Numbers: ER16-207-000.

Applicants: Dynegy Oakland, LLC.

Description: Section 205(d) Rate Filing: Annual RMR Section 205 Filing and RMR Schedule F Informational Filing to be effective 1/1/2016.

Filed Date: 10/30/15.

Accession Number: 20151030-5346.

Comments Due: 5 p.m. ET 11/20/15.

Docket Numbers: ER16-208-000.

Applicants: Midcontinent Independent System Operator, Inc., International Transmission Company, ITC Midwest LLC, Michigan Electric Transmission Company, LLC.

Description: Section 205(d) Rate Filing: 2015-10-30_ITC, ITCM, METC Attachment O Revisions to be effective 1/1/2016.

Filed Date: 10/30/15.

Accession Number: 20151030-5396.

Comments Due: 5 p.m. ET 11/20/15.

Docket Numbers: ER16-209-000.

Applicants: Southwest Power Pool, Inc.

Description: Section 205(d) Rate Filing: Central Power Electric Cooperative Formula Rate to be effective 1/1/2016.

Filed Date: 10/30/15.

Accession Number: 20151030-5424.

Comments Due: 5 p.m. ET 11/20/15.

Docket Numbers: ER16-210-000.

Applicants: Idaho Power Company.

Description: Section 205(d) Rate Filing: IPC-PAC JOOA Amendment and Exhibit G to be effective 10/30/2015.

Filed Date: 10/30/15.

Accession Number: 20151030-5425.

Comments Due: 5 p.m. ET 11/20/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 30, 2015.
Nathaniel J. Davis, Sr.,
Deputy Secretary.

[FR Doc. 2015-28209 Filed 11-4-15; 8:45 am]

BILLING CODE 6717-01-P